Title 3—

The President

Presidential Determination No. 2001-10 of January 17, 2001

Presidential Determination Pursuant to Section 2 (c) (1) of the Migration and Refugee Assistance Act of 1962, as Amended

Memorandum for the Secretary of State

Pursuant to section 2 (c) (1) of the Migration and Refugee Assistance Act of 1962, as amended, 22 U.S.C. 2601 (c) (1), I hereby determine that it is important to the national interest to make up to $22 million from the U.S. Emergency Refugee and Migration Assistance Fund available to meet unexpected urgent refugee and migration needs, including those of refugees, displaced persons, conflict victims, and other persons at risk, due to crises in the Balkans and Nepal. These funds may be used, as appropriate, to provide contributions to international, governmental, and nongovernmental organizations and, as necessary, for administrative expenses of the Bureau of Population, Refugees, and Migration.

You are authorized and directed to inform the appropriate committees of the Congress of this determination and the obligation of funds under this authority, and to arrange for the publication of this memorandum in the Federal Register.

wj

THE WHITE HOUSE,

Washington, January 17, 2001.

[FR Doc. 01-2895

Filed 1-31-01; 8:45 am]

Billing code 4710-10-M